DEPARTMENT OF COMMERCE

National Oceanic and Atmospheric Administration

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Pacific Islands Crustacean Fisheries Permit.

OMB Control Number: 0648-0586.

Form Number(s): None.

Type of Request: Regular (revision and extension of a currently approved information collection).

Number of Respondents: 10.

Average Hours per Response: 15 minutes.

Burden Hours: 3.

Needs and Uses: Owners of fishing vessels that fish for lobster or deepwater shrimp that are crustacean management unit species in Federal waters, or that land crustacean management unit species in ports of the western Pacific region, must obtain a crustacean fisheries fishing permit from NMFS. This collection originally covered permitting, vessel identification, and reporting requirements for deepwater shrimp fisheries in the Pacific Islands region. The reporting requirement was moved into OMB Control No. 0648-0214 and the vessel identification requirement was moved into OMB Control No. 0648-0360. Lobster permit applications were previously covered by OMB Control No. 0648-0490, but now are consolidated into this collection, so the name is changed to cover permits for all crustacean fisheries.

Affected Public: Business or other for-profit organizations.

Frequency: Annually.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: June 22, 2015.
Sarah Brabson,
NOAA PRA Clearance Officer.

[FR Doc. 2015-15682 Filed 6-25-15; 8:45 am]

BILLING CODE 3510-22-P